DEPARTMENT OF COMMERCE

International Trade Administration

[A-533-838]

Carbazole Violet Pigment 23 From India: Preliminary Results of New Shipper Review; 2021-2022

AGENCY: Enforcement and Compliance, International Trade Administration, Department of Commerce.

DATES: Applicable November 24, 2023.

FOR FURTHER INFORMATION CONTACT: Dennis McClure at (202) 482-5973 or Henry Wolfe at (202) 482-0574, AD/CVD Operations, Office VIII, Enforcement and Compliance, International Trade Administration, U.S. Department of Commerce, 1401 Constitution Avenue NW, Washington, DC 20230.

SUPPLEMENTARY INFORMATION:

Background

On December 29, 2004, the U.S. Department of Commerce (Commerce) published in the Federal Register the antidumping duty order on carbazole violet pigment 23 (CVP-23) from India.¹ On January 27, 2023, we initiated a new shipper review (NSR) based on a timely request from Sudarshan Chemical Industries Limited (Sudarshan).²

¹ See Notice of Amended Final Determination of Sales at Less Than Fair Value and Antidumping Duty Order: Carbazole Violet Pigment 23 from India, 69 FR 77988 (December 29, 2004) (Order).

² See Carbazole Violet Pigment 23 from India: Initiation of Antidumping Duty New Shipper Review, 88 FR 5309 (January 27, 2023).

For a complete description of the events that followed the initiation of this NSR, see the Preliminary Decision Memorandum.³ A list of topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Results of New Shipper Review of the Antidumping Duty Order on Carbazole Violet Pigment 23 from India; 2021-2022,” dated concurrently with, and hereby adopted by, this notice (Preliminary Decision Memorandum).

Scope of the Order

The product covered by the Order is carbazole violet pigment 23. The merchandise subject to the Order is classifiable under subheading 3204.17.9040 of the Harmonized Tariff Schedule of the United States (HTSUS). Although the HTSUS subheading is provided for convenience and customs purposes, our written description of the scope of this Order is dispositive. For a complete description of the scope of the Order, see the Preliminary Decision Memorandum.

Methodology

Commerce conducted this review in accordance with section 751 of the Tariff Act of 1930, as amended (the Act). For a full description of the methodology underlying the preliminary determination, see the Preliminary Decision Memorandum.

Verification

As provided in 19 CFR 351.307(b)(iv), Commerce intends to verify the information submitted by Sudarshan in advance of the final results of the review.

Preliminary Results

As a result of this NSR, Commerce preliminarily determines the following weighted-average dumping margin exists for the period, December 1, 2021, through November 30, 2022.

Producer/exporter | Weighted- average dumping margin (percent)
Sudarshan Chemical Industries Limited | 0.00

Disclosure and Public Comment

Commerce intends to disclose the calculations performed in connection with these preliminary results to interested parties within five days of any public announcement or, if there is no public announcement, within five days of the date of publication of this notice in accordance with 19 CFR 351.224(b).

Interested parties will be notified of the deadline for the submission of case briefs at a later date.⁴ Rebuttal briefs, limited to issues raised in the case briefs, may be filed not later than five days after the date for filing case briefs.⁵ Parties who submit case or rebuttal briefs in this proceeding are encouraged to submit with each argument: (1) a statement of the issue; (2) a brief summary of the argument; and (3) a table of authorities.⁶ Executive summaries should be limited to five pages total, including footnotes.

⁴ See 19 CFR 351.309(c)(1)(ii).

⁵ See 19 CFR 351.309(d)(1) and (2); see also Administrative Protective Order, Service, and Other Procedures in Antidumping and Countervailing Duty Proceedings; Final Rule, 88 FR 67069 (September 29, 2023) (APO and Service Final Rule).

⁶ See 19 CFR 351.309(c)(2) and (d)(2).

Pursuant to 19 CFR 351.310(c), interested parties who wish to request a hearing must submit a written request to the Assistant Secretary for Enforcement and Compliance, filed electronically via ACCESS. Requests should contain the following information: (1) the party's name, address, and telephone number; (2) the number of participants; (3) whether any participant is a foreign national; and (4) a list of issues to be discussed. Issues raised in the hearing will be limited to those raised in the respective case briefs. If a request for a hearing is made, Commerce intends to notify parties of the time and date for the hearing.

An electronically filed hearing request must be received successfully in its entirety by Commerce's electronic records system, ACCESS, by 5:00 p.m. Eastern Time within 30 days after the date of publication of this notice.⁷ Note that Commerce has amended certain of its requirements pertaining to the service of documents in 19 CFR 351.303(f).⁸

⁷ See 19 CFR 351.310(c).

⁸ See APO and Service Final Rule.

Commerce intends to issue the final results of this NSR, including the results of its analysis of issues raised in any written briefs, no later than 90 days after the date of issuance of the preliminary determination of this notice, unless extended, pursuant to section 751(a)(2)(B)(iii) of the Act.

Assessment Rates

Upon issuing the final results of this review, Commerce will determine, and U.S. Customs and Border Protection (CBP) shall assess, antidumping duties on all appropriate entries covered by this review.⁹ If the respondent's weighted-average dumping margin is zero or de minimis in the final results of this review, Commerce will instruct U.S. Customs and Border Protection (CBP) not to assess antidumping duties on any of its entries in accordance with the Final Modification for Reviews.¹⁰ If the respondent's weighted-average dumping margin is above de minimis (i.e., 0.5 percent) in the final results of this review, Commerce will calculate importer-specific assessment rates on the basis of the ratio of the total amount of dumping calculated for the importer's examined sales to the total entered value of those sales, in accordance with 19 CFR 351.212(b)(1). If an importer-specific rate is zero or de minimis, Commerce will instruct CBP to liquidate the appropriate entries without regard to antidumping duties.

⁹ See 19 CFR 351.212(b).

¹⁰ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

Cash Deposit Instructions

The following cash deposit requirements will be effective upon publication of the final results of this review for shipments of the subject merchandise from India entered, or withdrawn from warehouse, for consumption on or after the publication date, as provided by section 751(a)(2)(C) of the Act: (1) for subject merchandise produced and exported by Sudarshan, the cash deposit rate will be the rate established for Sudarshan in the final results of this NSR (except, if the rate is zero or de minimis, then no cash deposit will be required); ¹¹ (2) for subject merchandise exported by Sudarshan, but not produced by Sudarshan, the cash deposit rate will be the producer's rate, or the all others rate (i.e., 27.48 percent) ¹² if the producer does not have its own rate; and (3) for subject merchandise produced by Sudarshan, but not exported by Sudarshan, the cash deposit rate will be the rate applicable to the exporter, or the all other's rate if the exporter does not have its own rate. These cash deposit requirements, when imposed, shall remain in effect until further notice.

¹¹ See Certain Cut-To-Length Carbon-Quality Steel Plate Products from The Republic of Korea: Preliminary Results of Antidumping Duty Administrative and New Shipper Reviews and Rescission of Administrative Review, In Part; 2014-2015, 81 FR 12870 (March 11, 2016).

¹² See Order, 69 FR at 77989.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Notification to Interested Parties

We are issuing and publishing these results in accordance with sections 751(a)(2)(B) and 777(i)(1) of the Act and 19 CFR 351.214.

Dated: November 17, 2023.
Abdelali Elouaradia, Deputy Assistant Secretary for Enforcement and Compliance.

Appendix

List of Topics Discussed in the Preliminary Decision Memorandum

I. Summary

II. Background

III. Scope of the Order

IV. Discussion of Methodology

V. Currency Conversion

VI. Recommendation

[FR Doc. 2023-25935 Filed 11-22-23; 8:45 am]

BILLING CODE 3510-DS-P